DEPARTMENT OF ENERGY

Federal Energy Regulatory Commission

[Docket No. IC09-912-000]

Commission Information Collection Activities (FERC-912); Comment Request; Extension

September 9, 2009.

AGENCY: Federal Energy Regulatory Commission.

ACTION: Notice of proposed information collection and request for comments.

SUMMARY: In compliance with the requirements of section 3506(c)(2)(a) of the Paperwork Reduction Act of 1995 (Pub. L. 104-13), the Federal Energy Regulatory Commission (Commission or FERC) is soliciting public comment on the specific aspects of the information collection described below.

DATES: Comments in consideration of the collection of information are due November 19, 2009.

ADDRESSES: An example of this collection of information may be obtained from the Commission's Web site (at http://www.ferc.gov/docs-filing/elibrary.asp). Comments may be filed either electronically or in paper format, and should refer to Docket No. IC09-912-000. Documents must be prepared in an acceptable filing format and in compliance with the Federal Energy Regulatory Commission submission guidelines at http://www.ferc.gov/help/submission-guide.asp.

Comments may be filed electronically via the eFiling link on the Commission's Web site at http://www.ferc.gov. First time users will have to establish a user name and password (http://www.ferc.gov/docs-filing/eregistration.asp) before eFiling. The Commission will send an automatic acknowledgement to the sender's e-mail address upon receipt of comments through eFiling.

Commenters filing electronically should not make a paper filing. Commenters that are not able to file electronically must send an original and 14 copies of their comments to: Federal Energy Regulatory Commission, Secretary of the Commission, 888 First Street, NE., Washington, DC 20426.

Users interested in receiving automatic notification of activity in this docket may do so through eSubscription (at http://www.ferc.gov/docs-filing/esubscription.asp). In addition, all comments and FERC issuances may be viewed, printed or downloaded remotely through FERC's Web site using the “eLibrary” link and searching on Docket Number IC09-912. For user assistance, contact FERC Online Support (e-mail at ferconlinesupport@ferc.gov, or call toll-free at (866) 208-3676, or for TTY, contact (202) 502-8659).

FOR FURTHER INFORMATION CONTACT: Ellen Brown may be reached by telephone at (202) 502-8663, by fax at (202) 273-0873, and by e-mail at ellen.brown@ferc.gov.

SUPPLEMENTARY INFORMATION: FERC-912 (“Cogeneration and Small Power Production, PURPA Section 210(m) Regulations for Termination or Reinstatement of Obligation to Purchase or Sell,” OMB Control No. 1902-0237) ¹ covers the reporting requirements in 18 CFR Part 292.

¹ During its history, “FERC-912” has been known by various ‘names’ and OMB control numbers. Originally, FERC had wanted to include FERC-912 requirements in the FERC-556 `umbrella' of requirements. Because FERC-556 (“Cogeneration and Small Power Production;” OMB Control No. 1902-0075) was pending OMB review of another rulemaking (in Docket No. RM05-36-000) prior to the issuance of the Notice of Proposed Rulemaking (NOPR) in RM06-10, the Commission used a temporary identifier of “FERC-912”.

“FERC-912” was originally assigned the OMB Control No. 1902-0219 at the NOPR stage. However, prior to issuance of the final rule in Docket RM06-10, OMB Control No. 1902-0219 was eliminated from OMB's inventory.

FERC-556 (OMB Control No. 1902-0075) was then approved in RM05-36, so FERC used the “FERC-912(556)” identifier in the Final Rule in RM06-10. The Commission planned to transfer the hours associated with “FERC-912(556)” in RM06-10 to FERC-556. Page two of the OMB approval (dated 2/23/2007) for ICR Reference Number 200611-1902-003 listed OMB Control No. 1902-0237 as FERC-556.

Currently FERC-556 (OMB Control No. 1902-0075) is pending OMB review, so this collection is being called “FERC-912” and is being submitted separately. FERC-556 is not a subject of this Notice.

On August 8, 2005, the Energy Policy Act of 2005 (EPAct 2005, Pub. L. 109-58, 119 Stat. 594 (2005)) was signed into law. Section 1253(a) of EPAct 2005 amends section 210 of the Public Utility Regulatory Policies Act of 1978 (PURPA) by adding subsection (m), that provides for the termination and reinstatement of an electric utility's obligation to purchase and sell energy and capacity. The implementing regulations in 18 CFR part 292 (18 CFR 292.309-292.313) provide procedures for:

• An electric utility to file an application for the termination of its obligation to purchase energy from a Qualifying Facility (QF) (18 CFR 292.310);

• An affected entity or person to apply to the Commission for an order reinstating the electric utility's obligation to purchase energy from a QF (18 CFR 292.311);

• An electric utility to file an application for the termination of its obligation to sell energy and capacity to QFs (18 CFR 292.312);

• An affected entity or person to apply to the Commission for an order reinstating the electric utility's obligation to sell energy and capacity to QFs (18 CFR 292.313).

Action: The Commission is requesting a three-year extension of the current FERC-912 reporting requirements, with no change.

Burden Statement: The estimated annual public reporting burden for FERC-912 follows.

FERC-912 | Annual No. of respondents | Average No. of reponses per respondent | Average burden hours per response | Total annual burden hours
| (1) | (2) | (3) | (1) × (2) × (3)
Termination of obligation to purchase in § 292.310 | 4 | 1 | 12 | 48
Reinstatement of obligation to purchase in § 292.311 | 1 | 1 | 13 | 13
Termination of obligation to sell in § 292.312 | 1 | 1 | 12 | 12
Reinstatement of obligation to sell in § 292.313 | 1 | 1 | 13 | 13
Totals |  |  |  | 86

The total estimated annual cost burden to respondents is $5,304.58 [(86 hours/2,080 hours ² per year) × $128,297 ³ per year].

² Number of hours an employee works each year.

³ Estimated mean annual salary of a lawyer.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology, e.g. permitting electronic submission of responses.

Kimberly D. Bose,
Secretary.

[FR Doc. E9-22231 Filed 9-15-09; 8:45 am]

BILLING CODE 6717-01-P